DEPARTMENT OF COMMERCE

International Trade Administration

[A-570-947]

Certain Steel Grating From the People's Republic of China: Preliminary Results of Antidumping Administrative Review and Preliminary Determination of No Shipments; 2014-2015

AGENCY: Enforcement and Compliance, International Trade Administration, Department of Commerce.

DATES: Effective April 13, 2016.

SUMMARY: The Department of Commerce (“Department”) is conducting an administrative review of the antidumping duty order on certain steel grating (“steel grating”) from the People's Republic of China (“PRC”) for the period of review (“POR”) July 1, 2014, through June 30, 2015. This review covers two PRC companies.¹ The Department preliminarily finds that Ningbo Haitian has not demonstrated its eligibility for separate rate status and is, thus, part of the PRC-wide entity. The Department preliminarily finds that Yantai Xinke made no shipments of subject merchandise during the POR. Interested parties are invited to comment on these preliminary results of review.

¹ The companies under review are Ningbo Haitian International Co., Ltd. (“Ningbo Haitian”) and Yantai Xinke Steel Structure Co., Ltd. (“Yantai Xinke”).

FOR FURTHER INFORMATION CONTACT: Lilit Astvatsatrian, AD/CVD Operations, Office IV, Enforcement & Compliance, International Trade Administration, U.S. Department of Commerce, 14th Street and Constitution Avenue NW., Washington, DC 20230; telephone: (202) 482-6412.

SUPPLEMENTARY INFORMATION:

Background

The Department published the notice of initiation of this administrative review on September 2, 2015.² For a complete description of the events that followed the initiation of this administrative review, see the Preliminary Decision Memorandum,³ which is dated concurrently with, and hereby adopted by, this notice. The Preliminary Decision Memorandum is a public document and is on file electronically via Enforcement and Compliance's Antidumping and Countervailing Duty Centralized Electronic Service System (“ACCESS”). ACCESS is available to registered users at http://access.trade.gov and in the Central Records Unit, room B8024 of the main Department of Commerce building. In addition, a complete version of the Preliminary Results Decision Memorandum can be accessed directly on the Internet at http://enforcement.trade.gov/frn/index.html. The signed and the electronic versions of the Preliminary Decision Memorandum are identical in content.

² See Initiation of Antidumping and Countervailing Duty Administrative Reviews, 80 FR 53106 (September 2, 2015) (“Initiation Notice”).

³ See Decision Memorandum for Preliminary Results of Antidumping Duty Administrative Review of Certain Steel Grating from the People's Republic of China (“Preliminary Decision Memorandum”), from Christian Marsh, Deputy Assistant Secretary for Antidumping and Countervailing Duty Operations to Ronald K. Lorentzen, Acting Assistant Secretary for Enforcement and Compliance.

The Department has exercised its discretion to toll all administrative deadlines due to the recent closure of the Federal Government because of Snowstorm “Jonas.” Thus, all of the deadlines in this segment of the proceeding have been extended by four business days. The revised deadline for the preliminary results of review is now April 7, 2016.⁴

⁴ See Memorandum to the Record from Ron Lorentzen, Acting Assistant Secretary for Enforcement & Compliance, regarding “Tolling of Administrative Deadlines as a Result of the Government Closure during Snowstorm Jonas,” dated January 27, 2016.

Scope of the Order

The products covered by this order are certain steel grating, consisting of two or more pieces of steel, including load-bearing pieces and cross pieces, joined by any assembly process.⁵ This merchandise is currently classified in the Harmonized Tariff Schedule of the United States (“HTSUS”) under item number 7308.90.7000. While the HTSUS subheadings are provided for convenience and customs purposes, the written description of the scope of the order is dispositive.

⁵ For the full scope of the order, see Preliminary Decision Memorandum at 2-3.

Methodology

The Department conducted this review in accordance with section 751(a)(1)(B) of the Tariff Act of 1930, as amended (“the Act”). For a full discussion of the decisions taken in these preliminary results, see the Preliminary Decision Memorandum.

Separate Rates

Ningbo Haitian failed to submit a separate rate application or separate rate certification. Therefore, the Department preliminarily determines that Ningbo Haitian has not demonstrated its eligibility for a separate rate status and is part of the PRC-wide entity.⁶ The PRC-wide entity rate is 145.18 percent.

⁶ See Initiation Notice, 80 FR 53106, 53107 (“All firms listed below that wish to qualify for separate rate status in the administrative reviews involving NME countries must complete, as appropriate, either a separate rate application or certification. . .”); Preliminary Decision Memorandum at 3.

Preliminary Determination of No Shipments

Yantai Xinke submitted a timely-filed certification that it had no exports, sales, or entries of subject merchandise during the POR.⁷ Additionally, our inquiry to U.S. Customs and Border Protection (“CBP”) did not identify any POR entries of Yantai Xinke's subject merchandise. Based on the foregoing, the Department preliminarily determines that Yantai Xinke did not have any reviewable transactions during the POR. For additional information regarding this determination, see the Preliminary Decision Memorandum.

⁷ See Letter from Yantai Xinke to the Department, Re: “Certain Steel Grating from the People's Republic of China: A-570-947; No Shipment Certification,” dated September 30, 2015.

Consistent with our practice in NME cases, the Department is not rescinding this administrative review for Yantai Xinke, but intends to complete the review and issue appropriate instructions to CBP based on the final results of the review.⁸

⁸ See Non-Market Economy Antidumping Proceedings: Assessment of Antidumping Duties, 76 FR 65694, 65694-95 (October 24, 2011) (“NME AD Assessment”) and the “Assessment Rates” section, below.

Preliminary Results of Review

The Department preliminarily determines that Ningbo Haitian is not eligible for separate rates status. Moreover, the Department preliminarily determines that Yantai Xinke did not have reviewable transactions during the POR.

Public Comment

Interested parties are invited to comment on the preliminary results and may submit case briefs and/or written comments, filed electronically using ACCESS, within 30 days of the date of publication of this notice, pursuant to 19 CFR 351.309(c)(1)(ii).⁹ Rebuttal briefs, limited to issues raised in the case briefs, will be due five days after the due date for case briefs, pursuant to 19 CFR 351.309(d). Parties who submit case or rebuttal briefs in this review are requested to submit with each argument a statement of the issue, a summary of the argument not to exceed five pages, and a table of statutes, regulations, and cases cited, in accordance with 19 CFR 351.309(c)(2).

⁹ See also 19 CFR 351.303 (for general filing requirements).

Pursuant to 19 CFR 351.310(c), interested parties, who wish to request a hearing must submit a written request to the Assistant Secretary for Enforcement and Compliance, U.S. Department of Commerce, filed electronically using ACCESS. Electronically filed case briefs/written comments and hearing requests must be received successfully in their entirety by the Department's electronic records system, ACCESS, by 5:00 p.m. Eastern Time, within 30 days after the date of publication of this notice.¹⁰ Hearing requests should contain: (1) The party's name, address and telephone number; (2) The number of participants; and (3) a list of issues to be discussed. Issues raised in the hearing will be limited to those issues raised in the respective case briefs. If a request for a hearing is made, parties will be notified of the time and date of the hearing which will be held at the U.S. Department of Commerce, 1401 Constitution Avenue NW., Washington DC 20230.

¹⁰ See 19 CFR 351.310(c).

Unless extended, the Department intends to issue the final results of this administrative review, including the results of its analysis of the issues raised in any written briefs, not later than 120 days after the date of publication of this notice, pursuant to section 751(a)(3)(A) of the Act.

Assessment Rates

Upon issuance of the final results, the Department will determine, and CBP shall assess, antidumping duties on all appropriate entries covered by this review.¹¹ The Department intends to issue assessment instructions to CBP 15 days after the publication date of the final results of this review. The Department intends to instruct CBP to liquidate any entries of subject merchandise from Ningbo Haitian at 145.18 percent (the PRC-wide rate).

¹¹ See 19 CFR 351.212(b)(1).

Additionally, pursuant to the Department's practice in NME cases, if we continue to determine that Yantai Xinke had no shipments of subject merchandise, any suspended entries of subject merchandise from Yantai Xinke will be liquidated at the PRC-wide rate.¹²

¹² For a full discussion of this practice, see NME AD Assessment, 76 FR 65694 (October 24, 2011).

Cash Deposit Requirements

The following cash deposit requirements will be effective upon publication of the final results of this administrative review for all shipments of the subject merchandise entered, or withdrawn from warehouse, for consumption on or after the publication date of the final results of review, as provided by section 751(a)(2)(C) of the Act: (1) For previously investigated or reviewed PRC and non-PRC exporters, which are not under review in this segment of the proceeding but which have separate rates, the cash deposit rate will continue to be the exporter-specific rate published for the most recent period; (2) for all PRC exporters of subject merchandise that have not been found to be entitled to a separate rate, including Ningbo Haitian, the cash deposit rate will be the PRC-wide rate of 145.18 percent; and (3) for all non-PRC exporters of subject merchandise, which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: April 6, 2016.
Ronald K. Lorentzen,
Acting Assistant Secretary for Enforcement and Compliance.

Appendix

List of Topics Discussed in the Preliminary Results Decision Memorandum

Summary

Background

Scope of the Order

Discussion of the Methodology

Non-Market Economy Country Status

PRC-wide Entity

Preliminary Determination of No Shipments

Recommendation

[FR Doc. 2016-08500 Filed 4-12-16; 8:45 am]

BILLING CODE 3510-DS-P